DEPARTMENT OF COMMERCE

Patent and Trademark Office

[Docket No. 2005-T-060]

Notice of Unavailability of the Trademark Trial and Appeal Board's Electronic System for Trademark Trials and Appeals (ESTTA)

AGENCY: United States Patent and Trademark Office, Commerce.

ACTION: Notice of ESTTA unavailability.

SUMMARY: Notice is hereby given that ESTTA will be unavailable during certain time periods during the relocation of the United States Patent and Trademark Office data center to a site in Alexandria, Virginia.

DATES: The ESTTA unavailability dates are:

(1) From 6 p.m., Friday, April 29, 2005 until 5:30 a.m., Monday, May 2, 2005;

(2) from 6 p.m., Friday, May 6, 2005 until 5:30 a.m., Monday, May 9, 2005;

(3) from 6 p.m., Friday, May 13, 2005 until 5:30 a.m., Monday, May 16, 2005; and

(4) from 6 p.m., Friday, May 27, 2005 until 5:30 a.m., Tuesday, May 31, 2005.

SUPPLEMENTARY INFORMATION: The United States Patent and Trademark Office data center is moving to a new location in Alexandria, Virginia. It is expected that this move will commence on or about April 29, 2005, and will be completed on or about May 31, 2005. Due to the relocation of the data center, ESTTA will be unavailable during certain time periods. During the periods of ESTTA unavailability, oppositions to Extensions of Protection filed pursuant to Section 66 of the Trademark Act can only be filed in paper. Therefore, Patent and Trademark Rule 2.101(b)(2) (37 CFR § 2.101(b)(2)), which requires that an opposition to an application based on Section 66(a) be filed through ESTTA, is waived during the periods of ESTTA unavailability. Paper filings of oppositions to Extensions of Protection otherwise will not be accepted.

Paper filings should be directed to: The Trademark Trial and Appeal Board, P.O. Box 1451, Alexandria, VA 22313-1451.

In addition, to insure that the Board can timely notify the International Bureau of the World Intellectual Property Organization of the provisional refusal based on the opposition, a copy of the opposition should be faxed to the Board at (571) 273-0059.

FOR FURTHER INFORMATION CONTACT: Ms. Bonita Royall, by telephone at (571) 272-4302, or by facsimile to (571) 273-0059, marked to the attention of Bonita Royall.

Dated: April 7, 2005.
Jon W. Dudas,
Under Secretary of Commerce for Intellectual Property and Director of the United States Patent and Trademark Office.

[FR Doc. 05-7433 Filed 4-12-05; 8:45 am]

BILLING CODE 3510-16-P